DEPARTMENT OF EDUCATION

Implementation of the Rehabilitation Act of 1973, as Amended

AGENCY: Office of Special Education and Rehabilitative Services, Department of Education.

ACTION: Notice of public meetings and request for written comments.

SUMMARY: The Assistant Secretary announces a series of public meetings and invites written comments on the programs administered by the Office of Special Education and Rehabilitative Services (OSERS) under the Rehabilitation Act of 1973, as amended (the Act). During the public meetings and through the submission of written comments, we encourage individuals to comment on how well the objectives of the Act are being accomplished and on any barriers to the effective implementation of the Act. The purpose of these meetings and solicitation of written comments is to provide feedback to OSERS about the implementation of the Rehabilitation Act of 1973, as amended.

Public Meetings

DATES, TIMES, AND ADDRESSES: We will hold public meetings according to the following schedule:

1. Date: March 19, 2002, Time: 1 p.m. to 6 p.m., Location: Metropolitan Hotel, Lexington Avenue and 51st Street, New York City, NY.

2. Date: March 21, 2002, Time: 12:30 p.m. to 6:00 p.m., Location: Atlanta Marriott Marquis, 265 Peachtree Center Avenue, Atlanta, GA.

3. Date: March 25, 2002, Time: 10 a.m. to 5 p.m., Location: Holiday Inn O'Hare, 5440 North River Road, Rosemont, IL.

4. Date: April 18, 2002, Time: 12:30 p.m. to 5:30 p.m., Location: Elihu Harris State Office Building, 1st Floor Auditorium, 1515 Clay Street, Oakland, CA.

5. Date: May 9, 2002, Time: 12:30 p.m. to 6 p.m., Location: Bachman Therapeutic Recreation Center, 2750 Bachman Drive, Dallas, Texas.

6. Date: June 19, 2002, Time: 10 a.m. to 4 p.m., Location: U.S. Department of Education, Barnard Auditorium, 400 Maryland Ave, SW., Washington, DC.

Participants: Those who wish to present comments on the implementation of the Act at one of the public meetings must reserve time on the agenda for that meeting by contacting the individuals identified under RESERVATIONS AND ADDITIONAL MEETING INFORMATION. Reservations for presenting comments will be accepted on a first-come, first-served basis. Given the expected number of individuals interested in providing comments at the meetings, reservations for presenting comments should be made as soon as possible.

Participants will be allowed approximately 5 to 7 minutes to present their comments, depending upon the number of individuals who reserve time on the agenda. At the meeting, participants also are encouraged to submit two written copies of their comments. RESERVATIONS AND ADDITIONAL MEETING INFORMATION: All individuals attending the public meetings, including those presenting comments, must make reservations by contacting the following individuals:

New York: Richard Anderson, U.S. Department of Education, Rehabilitation Services Administration, Region II, c/o NYC Board of Education, 65 Court Street, 12th Floor, Brooklyn, NY 11201; (voice) (718) 935-5650; (fax) (718) 935-5584; (Federal Information Relay Service) 1-800-877-8339; (e-mail) richard.anderson@ed.gov.

Atlanta: Diane McCuen, Assistant Regional Commissioner, U.S. Department of Education, Rehabilitation Services Administration, Region IV, 61 Forsyth Street, Atlanta, GA 30303; (voice) (404) 562-6330; (fax) (404) 562-6346; (TTY) (404) 562-6347; (e-mail) diane.mccuen@ed.gov.

Chicago: Kathleen Niemi, U.S. Department of Education, Rehabilitation Services Administration, 111 North Canal Street, Suite 1048, Chicago, IL 60606-7204; (voice) (312) 886-8623; (fax) (312) 353-8623; (Federal Information Relay Service) 1-800-877-8339; (e-mail) kathleen.niemi@ed.gov.

Oakland: Gilbert “Doc” Williams, Regional Commissioner, U.S. Department of Education, Rehabilitation Services Administration, Region IX, 50 United Nations Plaza, San Francisco, CA 94102-4987; (voice) (415) 556-4070; (fax) (415) 437-7848; (TTY) (415) 437-7845; (e-mail) gilbert.williams@ed.gov.

Dallas: Michael Evans, U.S. Department of Education, Rehabilitation Services Administration, Region VI, 1999 Bryan Street, Dallas, TX 75201-6817; (voice) (214) 880-4927; (fax) (214) 880-4931; (TTY) (214) 880-4933; (e-mail) michael.evans@ed.gov.

Washington, DC: Tammy Nelson, U.S. Department of Education, Rehabilitation Services Administration, 400 Maryland Avenue, SW., room 3214, Mary E. Switzer Building, Washington, DC 20202-2531; (voice) (202) 205-9005; (fax) (202) 260-7527; (TTY) (202) 205-5538; (e-mail) tammy.nelson@ed.gov.

In addition to making reservations, individuals attending any of the public meetings, for security purposes, must be prepared to show photo identification in order to enter the meeting location.

Assistance to Individuals With Disabilities at the Public Meetings

The meeting rooms and proceedings will be accessible to individuals with disabilities. In addition, when making reservations, anyone presenting comments at or attending a meeting who needs special accommodations, such as sign language interpreters, Braille materials, and communication access real-time transcription, should inform the previously listed individual of his or her specific accessibility needs. You should make requests for accommodations at least 10 working days prior to the scheduled meeting date. Although we will attempt to meet a request we receive after that date, we may not be able to make available the requested auxiliary aid or service because of insufficient time to arrange it.

Request for Written Comments

In addition to soliciting input during the public meetings, we invite the public to submit written comments on the Act to assist OSERS in identifying issues relating to the effective implementation of the Rehabilitation Act of 1973, as amended.

DATES: We would like to receive your written comments on the Act by June 30, 2002.

ADDRESSES: Submit all comments to Joanne Wilson, Commissioner, Rehabilitation Services Administration, using one of the following methods:

1. Internet. We encourage you to send your comments through the Internet to the following address: http://www.ed.gov/offices/OSERS/RSA/Policy/Legislation/rehabact_comments.html.

2. Mail. You may submit your comments to Commissioner Wilson at U.S. Department of Education, 400 Maryland Avenue, SW., room 3028 Mary E. Switzer Building, Washington, DC 20202-2531.

3. Facsimile. You may submit comments by facsimile at (202) 205-9252 (main OSERS fax).

Written and Public Comments

Participants in the public meetings and individuals submitting written comments to OSERS are encouraged to comment on any of the provisions of the Act—titles I, II, III, VI, VII, and section 509—for which OSERS is responsible. We are particularly interested in comments from persons with disabilities, their family members and advocates, and those entities and individuals serving persons with disabilities under the Act.

FOR FURTHER INFORMATION CONTACT: Beverlee Stafford, U.S. Department of Education, Rehabilitation Services Administration, 400 Maryland Avenue, SW., room 3213, Mary E. Switzer Building, Washington, DC 20202-2550. Telephone (202) 205-8831 or via Internet: beverlee.stafford@ed.gov. If you use a telecommunications device for the deaf, you may call (202) 205-5538.

Individuals with disabilities may obtain a copy of this notice in an alternative format (e.g., Braille, large print, audiotape, or computer diskette) on request to the contact person listed in the previous paragraph.

Availability of Copies of the Act: You may obtain an electronic copy of the Act on the Internet at the following site: http://www.ed.gov/offices/OSERS/RSA/Policy/Legislation/rehabact.doc.

We encourage individuals who need copies of the Act to obtain copies via the Internet. However, for those individuals who are unable to access the Internet and are attending one of the public meetings, copies of the Act are available by contacting the appropriate individual identified under RESERVATIONS AND ADDITIONAL MEETING INFORMATION. Other individuals who are unable to access the Internet may obtain a copy of the Act by calling (202) 205-8299.

Individuals with disabilities may obtain a copy of the Act in an alternative format (e.g., Braille, large print, audiotape, or computer diskette) on request to the contact number listed in the previous paragraph.

SUPPLEMENTARY INFORMATION

Background and Description of the Act

The Act (29 U.S.C. 701 et seq.) was reauthorized on August 7, 1998, as title IV of the Workforce Investment Act of 1998, Pub. L. 105-220. Section 2 of the Act specifies that the purposes of the Act are to—

• Empower individuals with disabilities to maximize employment, economic self-sufficiency, independence, and inclusion and integration into society, through—statewide workforce investment systems (under title I of the Workforce Investment Act of 1998) that include, as integral components, comprehensive and coordinated state-of-the-art programs of vocational rehabilitation; independent living centers and services; research; training; demonstration projects; and the guarantee of equal opportunity; and

• Ensure that the Federal Government plays a leadership role in promoting the employment of individuals with disabilities, especially individuals with significant disabilities, and in assisting States and providers of services in fulfilling the aspirations of those individuals with disabilities for meaningful and gainful employment and independent living.

The Act includes the following seven titles:

Title I of the Act establishes the State Vocational Rehabilitation Services Program, which supports the Federal-State partnership for providing vocational rehabilitation services to individuals with disabilities seeking to achieve employment in the integrated labor market. The Act requires that, in the event services cannot be provided to all eligible individuals with disabilities who apply, States must give priority to individuals with the most significant disabilities. Each State is required to determine which individuals are “individuals with the most significant disabilities” and, therefore, given a priority for services in that State.

Additionally, each State vocational rehabilitation agency that is not a consumer-controlled independent commission primarily concerned with rehabilitation is also required to establish a State Rehabilitation Council (SRC) to review, analyze, and advise the vocational rehabilitation agency regarding the performance of its responsibilities under the Act and to work in partnership with the vocational rehabilitation agency in, among other things, developing the vocational rehabilitation agency's goals and priorities and evaluating the effectiveness of the vocational rehabilitation program. Given the composition requirements of the SRC, the SRC ensures that individuals with disabilities and other stakeholders have input in the vocational rehabilitation agency's policies and practices.

Title I of the Act also includes the authorization for the Client Assistance Program and the American Indian Vocational Rehabilitation Services Program. The American Indian Vocational Rehabilitation Services Program provides discretionary grants to governing bodies of Indian Tribes to establish projects that serve American Indians with disabilities on or near reservations. The Client Assistance Program provides formula grants to States for information, referral, advice, and advocacy services to individuals with disabilities who are applying for or receiving services funded under the Act.

Title II of the Act establishes NIDRR and authorizes research and related activities. NIDRR administers a program of rehabilitation research, including rehabilitation research and training centers, rehabilitation engineering research centers, research and demonstration projects, field-initiated projects, utilization and dissemination projects, fellowships, and research training grants.

Title III authorizes personnel training programs and service projects. Training grants are authorized to assist in increasing the number and skills of qualified personnel who provide services to individuals with disabilities. The training program supports pre-service training at degree-granting institutions, experimental and innovative training, continuing education programs, in-service training for personnel of State vocational rehabilitation agencies, and training of interpreters for individuals who are deaf or hard-of-hearing and individuals who are deaf-blind.

Title III also authorizes projects for migrants and seasonal farmworkers, recreational programs for individuals with disabilities, parent training, client choice demonstrations, and special demonstration programs.

Title IV of the Act establishes the National Council on Disability. The National Council on Disability is an independent Federal agency whose duties include providing advice to Congress and the President on the development of programs under the Act and reviewing and evaluating, on a continuing basis, all policies and programs for individuals with disabilities conducted or assisted by the Federal Government.

Section 509 authorizes the Protection and Advocacy of Individual Rights Program, which supports a system in each State to protect the human and legal rights of individuals with disabilities who need services that are beyond the scope of the Client Assistance Program and who are not eligible for services from other protection and advocacy programs.

Title VI of the Act authorizes the Projects With Industry and Supported Employment State Grants programs. The primary goal of the discretionary Projects With Industry grant program is to expand job opportunities for individuals with disabilities in the competitive labor market. In order to develop a partnership between business, industry, labor, and the rehabilitation community, each project is required to have a Business Advisory Council to provide advice on available jobs and training requirements.

Supported Employment State Grants is a formula grant program to assist States in developing collaborative programs with public agencies and nonprofit organizations to provide training and other services leading to supported employment for individuals with the most significant disabilities.

Title VII of the Act authorizes funding in Chapter 1 for comprehensive services for independent living and independent living centers, and in Chapter 2 for independent living services for older persons who are blind or have a significant visual impairment. Each State must establish a State Independent Living Council that jointly prepares and submits the required State plan for Chapter 1 independent living services and the State's network of centers for independent living.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 29 U.S.C. 701, et seq.

Dated: March 14, 2002.
Loretta L. Petty,
Acting Assistant Secretary for Special Education and, Rehabilitative Services.

[FR Doc. 02-6536 Filed 3-15-02; 8:45 am]

BILLING CODE 4000-01-U